DEPARTMENT OF COMMERCE

International Trade Administration

Texas A&M University; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave. NW., Washington, DC.

Docket Number: 14-035. Applicant: Texas A&M University, 200 Seawolf Parkway, Galveston, TX 77553. Instrument: Wartsila, W8L20 Generator set and special purpose tools. Manufacturer: Wartsila Ship Power, Finland. Intended use of instrument: See Application(s) for Duty-Free Entry of Scientific Instruments, 80 FR 31890, 31890 (June 4, 2015) (Application Notice) (explaining that the instrument would “be used to prepare students to serve as licensed engineering officers in the U.S. Merchant Service and for other careers in demand in the Houston job market and elsewhere”).

Comments: No comments have been received with respect to this application.

Decision: Application denied.

Reasons: To qualify for duty-free entry under item 851.60, an applicant must show that no instrument or apparatus of equivalent scientific value for the purposes for which the instrument or apparatus is intended to be used is being manufactured in the United States. See 15 CFR 351.1(b)(2) (“Annex D of the Agreement provides that scientific instruments and apparatus intended exclusively for education purposes or pure scientific research use by qualified nonprofit institutions shall enjoy duty-free entry if instruments or apparatus of equivalent scientific value are not being manufactured in the country of importation”). As explained in the Application Notice, “Marine Diesel engines of different design but in the same general category to that being donated are available in the US.” Application Notice, 80 FR at 31890. Therefore, the Wartsila, W8L20 Generator set and special purpose tools do not qualify for duty-free entry under item 851.60.

The Applicant states that no domestically produced engine was offered as a donation, but this is not a pertinent specification, as defined in 15 CFR 301.2(s). Section 301.2(s) provides that pertinent specifications are those “necessary for the accomplishment of the specific scientific research or science-related education purposes described by the applicant,” while “specifications of features (even if guaranteed) which afford greater convenience, satisfy personal preferences, accommodate institutional commitments or limitations, or assure lower costs of acquisition, installation, operation, servicing or maintenance are not pertinent.”

Accordingly, the applicant has failed to establish that domestic instruments of equivalent scientific value to the foreign instruments for the intended purposes are not available. Therefore, the application is denied.

Dated: September 2, 2015.
Gregory W. Campbell,
Director, Subsidies Enforcement Office, Enforcement and Compliance.

[FR Doc. 2015-23048 Filed 9-15-15; 8:45 am]

BILLING CODE 3510-DS-P